DEPARTMENT OF TRANSPORTATION

Federal Aviation Administration

Sixth Meeting: RTCA Special Committee 223: Airport Surface Wireless Communications

AGENCY: Federal Aviation Administration (FAA), Department of Transportation (DOT).

ACTION: Notice of RTCA Special Committee 223: Airport Surface Wireless Communications meeting.

SUMMARY: The FAA is issuing this notice to advise the public of a meeting of RTCA Special Committee 223: Airport Surface Wireless Communications.

DATES: The meeting will be held September 28-30, 2010 from 0900 a.m.-1600 p.m.

ADDRESSES: The meeting will be held at EUROCONTROL, Rue de la Fusee 96, Meeting Room VEGA, Brussels, Belgium.

FOR FURTHER INFORMATION CONTACT: RTCA Secretariat, 1828 L Street, NW., Suite 805, Washington, DC, 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a RTCA Special Committee 223: Airport Surface Wireless Communications meeting. The agenda will include:

• 0900 a.m.—Opening Plenary

• Welcome and Introductions

• Approval of the Agenda

• Minutes of Last Meeting

• Coordination with Other GROUPs (EUROCAE, RTCA, ICAO, SESAR, WMF)

• Report on ad-hoc committee work with WIMAX Forum (ITT)

• AeroMACS System Profile

• Status of US Profile Development (Harris)

• SJU/WG-82 Draft Profile Presentation (ECTL)

• Develop combined Draft Profile

• Presentations

• Overview of terrestrial communication networks (FAA)

• User Services and Applications (FAA)

• NASA Cleveland Test Bed Test Results (ITT)

• Channel Model Considerations for AeroMACS (Uni Lancaster)

• SANDRA SP 6.2 Simulation Results (DLR, Uni Salzburg)

• Further presentations (to be coordinated)

• Refinement of TOR of WG-82

• AOB

• Summary and Next Meeting

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on September 1, 2010.
Robert L. Bostiga,
RTCA Advisory Committee.

[FR Doc. 2010-22238 Filed 9-3-10; 8:45 am]

BILLING CODE 4910-13-P